DEPARTMENT OF COMMERCE

Foreign-Trade Zones Board

[B-85-2013]

Foreign-Trade Zone 7—Mayaguez, Puerto Rico; Authorization of Production Activity; Patheon Puerto Rico, Inc. (Pharmaceutical Products); Caguas and Manatí, Puerto Rico

On August 28, 2013, the Puerto Rico Industrial Development Company, grantee of FTZ 7, submitted a notification of proposed production activity to the Foreign-Trade Zones (FTZ) Board on behalf of Patheon Puerto Rico, Inc., within FTZ 7, Site 1 in Caguas and within Subzone 7L, in Manatí, Puerto Rico.

The notification was processed in accordance with the regulations of the FTZ Board (15 CFR part 400) including notice in the Federal Register inviting public comment (78 FR 58273, 09-23-2013). The FTZ Board has determined that no further review of the activity is warranted at this time. The production activity described in the notification is authorized, subject to the FTZ Act and the Board's regulations, including Section 400.14.

Dated: January 10, 2014.
Andrew McGilvray,
Executive Secretary.

[FR Doc. 2014-00918 Filed 1-16-14; 8:45 am]

BILLING CODE 3510-DS-P